DEPARTMENT OF COMMERCE

National Oceanic and Atmospheric Administration

50 CFR Part 635

[I.D. 051603C]

RIN 0648-AQ65

Atlantic Highly Migratory Species; Amendments to the Fishery Management Plan for Atlantic Tunas, Swordfish, and Sharks and the Fishery Management Plan for Atlantic Billfish

AGENCY: National Marine Fisheries Service (NMFS), National Oceanic and Atmospheric Administration (NOAA), Commerce.

ACTION: Extension of comment period; rescheduling of the Joint Advisory Panel meeting.

SUMMARY: Due to the need to reschedule three public hearings regarding the draft Consolidated Highly Migratory Species (HMS) Fishery Management Plan (FMP), and the extended recovery period needed for the Gulf region constituents from Hurricanes Katrina and Rita, NMFS is extending the comment period to provide adequate opportunity for public comment on the draft Consolidated HMS FMP and its proposed rule. NMFS is extending the comment period until March 1, 2006. The original comment period was scheduled to conclude on October 18, 2005. The three public hearings were cancelled in Federal Register documents on September 7 and 23, 2005. The draft Consolidated HMS FMP and its proposed rule describe a range of management measures that could impact fishermen and dealers for all HMS fisheries. NMFS is also rescheduling the October 11-13, 2005, HMS and Billfish Advisory Panels (AP) meeting to February 21-23, 2006. The intent of this meeting is to consider alternatives for the conservation and management of HMS as presented in the draft Consolidated HMS FMP and its proposed rule.

DATES: Written comments on the August 19, 2005 (70 FR 48804), proposed rule and the draft HMS FMP must be received no later than 5 p.m. on March 1, 2006.

The rescheduled AP meeting will be held from 1 p.m. to 5 p.m. on Tuesday, February 21, 2006, from 8 a.m. to 5 p.m. on Wednesday, February 22, 2006, and from 8 a.m. to 5 p.m. on Thursday, February 23, 2006.

ADDRESSES: The AP meeting will be held at the Holiday Inn, 8777 Georgia Avenue (Rt. 97), Silver Spring, MD 20910.

Written comments on the proposed rule and draft HMS FMP may be submitted to Karyl Brewster-Geisz, Highly Migratory Species Management Division by any of the following:

• Email: SF1.060303D@noaa.gov. Include in the subject line the following identifier: Atlantic HMS FMP.

• Mail: 1315 East-West Highway, Silver Spring, MD 20910. Please mark the outside of the envelope “Comments on Draft HMS FMP.”

• Fax: 301-427-2592.

• Federal e-Rulemaking Portal: http://www.regulations.gov.

Copies of the draft HMS FMP and other relevant documents are available on the Highly Migratory Species Management Division's website at www.nmfs.noaa.gov/sfa/hms or by contacting Karyl Brewster-Geisz at 301-713-2347.

FOR FURTHER INFORMATION CONTACT: For more information concerning the draft Consolidated HMS FMP and its proposed rule contact: Karyl Brewster-Geisz, Margo Schulze-Haugen, or Heather Stirratt at 301-713-2347 or fax 301-713-1917; Russ Dunn at 727-824-5399 or fax 727-824-5398; or Mark Murray-Brown at 978-281-9260 or fax 978-281-9340. For information regarding the rescheduled AP meeting contact Heather Stirratt at the specified number above.

SUPPLEMENTARY INFORMATION: The Atlantic HMS fisheries are managed under the dual authority of the Magnuson-Stevens Fishery Conservation and Management Act (Magnuson-Stevens Act) and the Atlantic Tunas Convention Act (ATCA). The FMP for Atlantic Tunas, Swordfish, and Sharks, finalized in 1999, the FMP for Atlantic Billfish, finalized in 1988, and amendments to those FMPs are implemented by regulations at 50 CFR part 635.

On August 19, 2005 (70 FR 48804), NMFS published a proposed rule, requested comments on the draft Consolidated HMS FMP, and scheduled 24 public hearings throughout September and October 2005 to receive comments from fishery participants and other members of the public regarding the proposed rule and draft Consolidated HMS FMP. On September 7, 2005 (70 FR 53146), NMFS announced the cancellation of two public hearings (in New Orleans, LA, and Orange Beach, AL) due to Hurricane Katrina and one meeting location change. Later, on September 23, 2005 (70 FR 55814), NMFS announced the cancellation of a third public hearing (in Key West, FL) due to Hurricane Rita. NMFS intends to reschedule all three public hearings at a later date and will publish the dates, times, and locations of those hearings in the Federal Register. In order to incorporate these rescheduled hearings into the public comment period, and to provide adequate opportunities for public comment by constituents, NMFS is extending the public comment period on the proposed rule and draft HMS FMP to 5 p.m., March 1, 2006.

Finally, NMFS has cancelled the October 11-13, 2005, AP meeting, and rescheduled the meeting for February 21-23, 2006, at the Holiday Inn in Silver Spring, MD.

Authority: 5 U.S.C. 561 and 16 U.S.C. 1801 et seq.

Dated: September 30, 2005.
John H. Dunnigan,
Director, Office of Sustainable Fisheries, National Marine Fisheries Service.

[FR Doc. 05-20002 Filed 9-30-05; 3:16 pm]

BILLING CODE 3510-22-S